DEPARTMENT OF LABOR

Employment and Training Administration

[TA-W-71,337; TA-W-71,337A]

Notice of Termination of Investigation; Craftex Mills, Inc., Chalfont, PA; Craftex Mills, Inc., Auburn, PA

Pursuant to Section 221 of the Trade Act of 1974, as amended, an investigation was initiated on June 22, 2009 in response to a petition filed on behalf of workers of Craftex Mills, Inc., Chalfont, Pennsylvania (TA-W-71,337) and Craftex Mills, Inc., Auburn, Pennsylvania (TA-W-71,337A).

The petitioning worker group is included in an earlier petition (TA-W-70,096) filed on May 18, 2009, that is the subject of an ongoing investigation for which a determination has not yet been issued. Further investigation in this case would duplicate efforts and serve no purpose; therefore the investigation under this petition has been terminated.

Signed in Washington, DC this 24th day of June 2009.
Elliott S. Kushner,
Certifying Officer, Division of Trade Adjustment Assistance.

[FR Doc. E9-15770 Filed 7-2-09; 8:45 am]

BILLING CODE 4510-FN-P